DEPARTMENT OF COMMERCE

International Trade Administration

[A-533-824]

Polyethylene Terephthalate Film, Sheet, and Strip From India: Final Results of Antidumping Duty New Shipper Review

AGENCY: Import Administration, International Trade Administration, Department of Commerce.

SUMMARY: On December 21, 2010, the Department of Commerce (the Department) issued the preliminary results of the new shipper review of polyethylene terephthalate film, sheet and strip (PET Film) from India for SRF Limited (SRF), covering the period July 1, 2009, through December 31, 2009 (POR). Based on the results of our analysis of the comments received, we continue to find that the U.S. sale of subject merchandise produced and exported by SRF was bona fide and not sold below normal value (NV). Therefore, the Department will instruct U.S. Customs and Border Protection (CBP) to liquidate entries subject to this review without regard to antidumping duties.

DATES: Effective Date: May 27, 2011.

FOR FURTHER INFORMATION CONTACT: Toni Page or Elfi Blum, AD/CVD Operations, Office 6, Import Administration, International Trade Administration, U.S. Department of Commerce, 14th Street and Constitution Avenue, NW., Washington, DC 20230; telephone: (202) 482-1398 or (202) 482- 0197.

SUPPLEMENTARY INFORMATION:

Background

Since the issuance of Polyethylene Terephthalate Film, Sheet, and Strip From India: Preliminary Results of Antidumping Duty New Shipper Review, 75 FR 81570 (December 28, 2010) (Preliminary Results), the following events have occurred. On January 21, 2011, the Department issued a memorandum confirming the briefing schedule, in accordance with 19 CFR 351.309(c), as stated in the Preliminary Results, 75 FR at 81573. See Memorandum To Interested Parties From Elfi Blum, International Trade Compliance Analyst, AD/CVD Operations, Office 6: New Shipper Reviews of the Antidumping Duty and Countervailing Duty Orders on Polyethylene Terephthalate Film, Sheet, and Strip from India; Verification and Briefing Schedule for the Final Results of Review (January 21, 2011). SRF and the petitioners, Dupont Teijin Films, Mitsubishi Polyester Film, Inc., SKC, Inc., and Toray Plastics (America), Inc. (collectively, Petitioners), timely filed case briefs on January 27, 2011. SRF timely filed a rebuttal brief on February 1, 2011.

The Department obtained, from CBP, import data for entries of PET Film from India into the United States during the period December 2009 through January 2011. On February 11, 2011, the Department placed this information on the record of this review. See Memorandum To All Interested Parties From Toni Page, International Trade Compliance Analyst: Antidumping and Countervailing Duty New Shipper Reviews of Polyethylene Terephthalate Film, Sheet, and Strip from India: U.S. Customs Entries from December 2009 to Present (January 11, 2011). The Department issued its third supplemental questionnaire to SRF on February 11, 2011, requesting information about the company's shipments after the POR of PET film to the United States. On February 25, 2011, SRF filed its response to the Department's supplemental questionnaire.

On March 3, 2011, the Department extended the final results of new shipper review from March 21, 2011 to May 20, 2011. See Polyethylene Terephthalate Film, Sheet and Strip From India: Extension of Time Limit for Final Results of Antidumping Duty New Shipper Review, 76 FR 12937 (March 9, 2011).

On April 13, 2011, the Department placed additional CBP data concerning post-POR shipments of PET Film to the United States, sold by SRF, on the record of this review and requested comments from the parties. See Memorandum to All Interested Parties from Toni Page, International Trade Compliance Analyst: Antidumping and Countervailing Duty New Shipper Reviews of Polyethylene Terephthalate Film, Sheet, and Strip from India: U.S. Customs Entries from December 2009 to present (April 13, 2011). Petitioners and SRF filed comments on the CBP data on April 18, 2011.

Scope of the Order

The products covered by the order are all gauges of raw, pretreated, or primed polyethylene terephthalate film, sheet and strip, whether extruded or coextruded. Excluded are metallized films and other finished films that have had at least one of their surfaces modified by the application of a performance-enhancing resinous or inorganic layer more than 0.00001 inches thick. Imports of PET Film are classifiable in the Harmonized Tariff Schedule of the United States (HTSUS) under item number 3920.62.00.90. HTSUS subheadings are provided for convenience and customs purposes. The written description of the scope of the order is dispositive.

Bona Fide Analysis of U.S. Sale

In the Preliminary Results, we determined that SRF's U.S. sale was a bona fide transaction. See Memorandum from Toni Page, International Trade Analyst Regarding: Bona Fide Nature of the Sale in the Antidumping Duty New Shipper Review of Polyethylene Terephthalate Film, Sheet, and Strip from India: SRF Limited (December 21, 2010). The Department also stated it would continue to examine, through the remainder of the review, all factors relating to the bona fide analysis of the sale. We have further examined the bona fide nature of SRF's U.S. sale and, for these final results, we continue to find the sale to be bona fide. For further details, see Memorandum to File from Toni Page, International Trade Analyst, Bona Fide Analysis of SRF's Sale in the Antidumping Duty New Shipper Review of Polyethylene Terephthalate Film, Sheet, and Strip from India, dated concurrently with this notice.

Analysis of Comments Received

All issues raised in the case briefs and rebuttal brief by parties to this new shipper review are addressed in Memorandum from Christian Marsh, Deputy Assistant Secretary for Antidumping and Countervailing Duty Operations, to Ronald K. Lorentzen, Deputy Assistant Secretary for Import Administration, Issues and Decision Memorandum for the Final Results of New Shipper Review of Polyethylene Terephthalate Film, Sheet, and Strip (PET Film) from India (May 20, 2011) (Issues and Decision Memorandum), which is hereby adopted by this notice. A list of the comments raised in the briefs and addressed in the Issues and Decision Memorandum is appended to this notice. The Issues and Decision Memorandum is on file in the Central Records Unit (CRU), room 7046 of the main Department building, and can be accessed directly on the Web at http://ia.ita.doc.gov/frn. The paper and electronic version of the Issues and Decision Memorandum are identical in content.

Changes Since the Preliminary Results

Based on the comments received from SRF, we have made a change to the margin calculations used in the Preliminary Results. As discussed in Comment 1 of the accompanying Issues and Decision Memorandum, the sum of the export subsidy rates calculated in the companion countervailing duty new shipper review have been added to export price for the purpose of calculating the antidumping margin for these final results.

Final Results of New Shipper Review

In accordance with section 751(a)(2)(B)(i) of the Tariff Act of 1930, as amended (the Act) and 19 CFR 351.221(b)(5), we determine that the following weighted average dumping margin exists for the period July 1, 2009, through December 31, 2009.

Manufacturer/exporter | Weighted- average margin (percent)
SRF Limited | 0.00

Disclosure

The Department will disclose to parties the calculations performed in connection with these final results within five days of the date of public announcement. See 19 CFR 351.224(b).

Assessment and Cash Deposit Instructions

The Department intends to issue assessment instructions to CBP 15 days after the date of publication of these final results of review to liquidate shipments of subject merchandise produced and exported by SRF and entered, or withdrawn from warehouse, for consumption on or after July 1, 2009, through December 31, 2009, without regard to antidumping duties.

The Department intends to also instruct CBP that the cash deposit rate for SRF is zero percent ad valorem of the entered value on shipments of the subject merchandise produced and exported by SRF, and entered, or withdrawn from warehouse, for consumption on or after the date of publication of the final results of this new shipper review.

Further, effective upon publication of the final results of this new shipper review, we intend to instruct CBP that importers may no longer post a bond or other security in lieu of a cash deposit on imports of PET Film from India, manufactured and exported by SRF. These cash deposit requirements, when imposed, shall remain in effect until further notice. The cash deposit rates for all companies not covered by this review are not changed by the results of this new shipper review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Return or Destruction of Proprietary Information

This notice serves as a reminder to parties subject to the administrative protective order (APO) of their responsibility concerning the disposition of proprietary information disclosed under the APO in accordance with 19 CFR 351.305. Timely written notification of return or destruction of APO materials or conversion to judicial protective order is hereby requested. Failure to comply with the regulations and the terms of an APO is a sanctionable violation.

This notice is issued and published in accordance with sections 751(a)(2)(B) and 777(i)(1) of the Act.

Dated: May 20, 2011.
Ronald K. Lorentzen,
Deputy Assistant Secretary for Import Administration.

Appendix I

List of Issues Addressed In the Issues and Decision Memorandum

Comment 1: Whether the Department Should Adjust the Export Price in the Antidumping Calculations by the Calculated Countervailing Duty Rate

Comment 2: Whether SRF's Single Sale and its U.S. Customer Are Indicative of a Bona Fide Sale

Comment 3: Whether the Price and Quantity of SRF's New Shipper Sale Are Indicative of a Bona Fide Sale

Comment 4: Whether SRF's PET Film Entry Was Re-sold for a Profit

[FR Doc. 2011-13264 Filed 5-26-11; 8:45 am]

BILLING CODE 3510-DS-P